DEPARTMENT OF THE INTERIOR

National Park Service

[NPS-WASO-CR-HPS-NPS0028085; PPWOCRADP1, PRN00HP12.CS0000, XXXP104214 (200); OMB Control Number 1024-0009]

Agency Information Collection Activities; Submission to the Office of Management and Budget for Review and Approval; Historic Preservation Certification Application

AGENCY: National Park Service, Interior.

ACTION: Notice of information collection; request for comment.

SUMMARY: In accordance with the Paperwork Reduction Act of 1995, we, the National Park Service (NPS) are proposing to renew an information collection.

DATES: Interested persons are invited to submit comments on or before March 2, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0009 in the subject line of your comments.

FOR FURTHER INFORMATION CONTACT: To request additional information about this ICR, contact Brian Goeken, Chief, Technical Preservation Services, 1849 C St. NW, Room 2255, Washington, DC 20240; or by email at brian_goeken@nps.gov; or by telephone at 202-354-2033. Please reference OMB Control Number 1024-0009 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On July 3, 2019, we published a Federal Register notice soliciting comments on this collection of information for 60 days, ending on September 3, 2019 (84 FR 31909). We received three (3) public comments on this notice.

Ogee, LLC suggested the use of a standardized list or more detailed organization of the description of work section in the Part 2 section of the application and that no portions of the scope of work for the project were unintentionally omitted.

NPS Response: We are considering the creation of additional guidance and application examples that would provide more direction on how to organize and structure the required description of work information.

Historic Tax Credit Coalition (HTTC) suggested that more information be collected regarding the rehabilitation of affordable housing units as part of the tax incentives program. Specifically, (1) number of rental housing units that are being created, (2) units created for “special needs” (i.e., members of a specified group under a federal or state housing program, or person engaged in artistic or literary activities), and (3) how are units that are “considered affordable and/or accessible,” being measured.

NPS Response: We contacted the commenter to discuss possible new field(s) and how existing and new fields could labeled or defined. The application form already requests some of this information. While the wording of the field names could be changed or further defined in the instructions, we did not update the forms because there is limited space available for new fields without having to add an additional page to the application. The commenter was unable to make any specific suggestions; therefore, we are not proposing any changes at this time in response to this comment.

Ogee, LLC and Historic Tax Credit Coalition (HTTC) both suggested that the NPS should provide or further explore the use of electronic submissions.

NPS Response: Currently, there are a number of logistical, technological, and practical factors that make submission of the application via electronic means presently unworkable, but we continue to explore this as a future option.

Artifacts-Inc. suggested that the program should work more closely with State Historic Preservation Offices (SHPOs) to administer the review process.

NPS Response: By law the National Park Service must make all final certification decisions. However, NPS partners with SHPOs to administer the certification program. The SHPOs are often the first point of contact meeting with applicants to answer questions, make site visits, and forward applications to the NPS after reviewing and making recommendations.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Federal Historic Preservation Tax Incentives Program encourages private-sector investment in the rehabilitation and re-use of historic buildings. Through this program, underutilized or vacant buildings throughout the country of every period, size, style, and type have been rehabilitated and reused in a manner that maintains their historic character. To be eligible for tax incentives for historic buildings, a building must be listed individually on the National Register of Historic Places (NRHP); or located in a registered historic district and certified by the NPS as contributing to the historic significance of that district. A registered historic district is any district listed on the NRHP; or a state or local district if the district and the enabling statute have also been certified by the NPS. The NRHP is the official list of the Nation's historic places worthy of preservation.

Section 47 of the Internal Revenue Code requires that the Secretary of the Interior certify to the Secretary of the Treasury upon application by owners of historic properties for Federal tax benefits: (a) The historic significance of the property, and (b) that the rehabilitation work is consistent with its historic character. The NPS administers the program with the Internal Revenue Service in partnership with the State Historic Preservation Offices (SHPOs). The NPS uses the information collected in the Historic Preservation Certification Application (Forms 10-168, 10-168a, 10-168b, and 10-168c) to evaluate the condition and historic significance of buildings undergoing rehabilitation, and to evaluate whether the rehabilitation work meets the Secretary of the Interior's Standards for Rehabilitation.

Regulations codified in 36 CFR part 67 contain a requirement for completion of an application form. The NPS needs the information required on the application form to allow the authorized officer to determine if the project is qualified to obtain historic preservation certifications from the Secretary of the Interior. These certifications are necessary for an applicant to receive substantial federal tax incentives authorized by Section 47 of the Internal Revenue Code. These incentives include a 20% federal income tax credit for the rehabilitation of income-producing historic buildings and an income tax deduction for the charitable donation of easements on historic properties. The Internal Revenue Code also provides a 10% federal income tax credit for the rehabilitation of non-historic, nonresidential buildings built before 1936. An owner of a non-historic building in a historic district must also use the application to obtain a certification from the Secretary of the Interior that his or her building does not contribute to the significance of the historic district before claiming this lesser tax credit for rehabilitation. The 10% credit was repealed as part of the 2017 tax reform legislation but remains in effect under certain transition rules.

SHPOs are the first point of contact for property owners wishing to use the rehabilitation tax credits. They help applicants determine if an historic building is eligible for Federal or State historic preservation tax incentives, provide guidance on an application before or after the project begins, and provide advice on appropriate preservation work. SHPOs use Forms 10-168d and 10-168e to make recommendations to NPS.

In accordance with 36 CFR 67, we also collect information for: (1) Certifications of State and local statutes (§ 67.8), (2) certifications of State or local historic districts (§ 67.9), and (3) appeals (§ 67.10).

Title of Collection: Historic Preservation Certifications, 36 CFR part 67.

OMB Control Number: 1024-0009.

Form Number: NPS Forms 10-168, 10-168a, 10-168b, 10-168c, 10-168d, and 10-168e.

Type of Review: Extension of a currently approved collection.

Respondents/Affected Public: Individuals, organizations, companies and businesses, and State or tribal governments.

Respondent's Obligation: Required to obtain or retain a benefit.

Frequency of Collection: On occasion.

Total Estimated Annual Non-hour Burden Cost: $4,612,811 based primarily on application fees and other costs (includes printing photographs and architectural drawings).

Activity | Estimated total annual responses | Estimated average completion time | Estimated total annual burden hours *
Form 10-168 (Part 1):
Individuals | 88 | 15 | 1,320
Private Sector | 1,663 | 15 | 24,945
Form 10-168a (Part 2):
Individuals | 77 | 51 | 3,927
Private Sector | 1,473 | 51 | 75,123
Form 10-168b (Amendment):
Individuals | 77 | 6 | 462
Private Sector | 1,473 | 6 | 8,832
Form 10-168c (Part 3):
Individuals | 53 | 12 | 636
Private Sector | 1,000 | 12 | 12,000
Forms 10-168d and 10-168e (State Review Sheets):
Form 10-168d | 1,751 | 3 | 5,253
Form 10-168e (Part 2s) | 1,550 | 5 | 7,750
Form 10-168e (Part 3s) | 1,053 | 4 | 4,212
Form 10-168e (for Amendments) | 1,549 | 3 | 4,647
Certification of Statutes | 1 | 5 | 5
Cert of Historic Districts | 2 | 20 | 40
Appeals:
Individuals | 3 | 40 | 120
Private Sector | 29 | 40 | 1,160
Totals | 11,841 |  | 150,432
* Rounded.

An agency may not conduct, or sponsor and a person is not required to respond to a collection of information unless it displays a currently valid OMB control number.

The authority for this action is the Paperwork Reduction Act of 1995 (44 U.S.C. 3501 et seq.).

Phadrea Ponds,
Acting, NPS Information Collection Clearance Officer, National Park Service.

[FR Doc. 2020-01673 Filed 1-29-20; 8:45 am]

BILLING CODE 4312-52-P